DEPARTMENT OF COMMERCE

National Oceanic and Atmospheric Administration

RIN 0648-XE301

Western Pacific Fishery Management Council; Public Meeting

AGENCY: National Marine Fisheries Service (NMFS), National Oceanic and Atmospheric Administration (NOAA), Commerce.

ACTION: Notice of public meeting.

SUMMARY: The Western Pacific Fishery Management Council (Council) will convene a meeting of Habitat Areas of Particular Concern (HAPC) Working Group comprised of Fishery Ecosystem Plan Team members. The working group will explore and evaluate options in developing an HAPC designation process for the Western Pacific region.

DATES: The working group will meet on November 23, 2015. For specific times and agendas, see SUPPLEMENTARY INFORMATION.

ADDRESSES: The HAPC working group meeting will be held at the Council office, 1164 Bishop Street, Suite 1400, Honolulu, HI 96813; telephone: (808) 522-8220. WebEx and teleconference facilities will be provided for the meeting. The teleconference numbers are: U.S. toll-free: 1-888-482-3560 or International Access: +1 647 723-3959, and Access Code: 5228220; The web conference can be accessed at https://wprfmc.webex.com/join/info.wpcouncilnoaa.gov.

FOR FURTHER INFORMATION CONTACT: Kitty M. Simonds, Executive Director, Western Pacific Regional Fishery Management Council; telephone: (808) 522-8220.

SUPPLEMENTARY INFORMATION: HAPC working group members will explore different process options for designating Habitat Areas of Particular Concern in the Western Pacific Region. The purpose of this meeting is to evaluate process options to be consolidated into a report to the Council's Fishery Ecosystem Plan Team. A public comment period will be provided. The order in which agenda items are addressed may change. The meetings will run as late as necessary to complete scheduled business.

Schedule and Agenda for the HAPC Working Group Meeting

November 23, 2015—2 p.m.-4 p.m.

1. Introductions

2. HAPC Process Options

3. Evaluation

4. Public Comment

5. Other Business

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 3, 2015.
Tracey L. Thompson,
Acting Deputy Director, Office of Sustainable Fisheries, National Marine Fisheries Service.

[FR Doc. 2015-28330 Filed 11-5-15; 8:45 am]

BILLING CODE 3510-22-P